DEPARTMENT OF HEALTH AND HUMAN SERVICES

Centers for Disease Control and Prevention

Board of Scientific Counselors, National Center for Injury Prevention and Control, NCIPC; Correction

Notice is hereby given of a change in the meeting of the Board of Scientific Counselors, National Center for Injury Prevention and Control; March 14, 2019, 02:00 p.m. to 05:00 p.m. EDT which was published in the Federal Register on January 30, 2019 Volume 84, Number 20, page 473.

The meeting is being changed to a partially open and partially closed meeting. This meeting will be open to the public from 02:00 p.m.-02:40 p.m. to update the public on the Opioid Prescribing Estimate project. The dial in number for the open portion of the meeting is as follows: 1-866-880-0098; Conference ID: 31769267. The meeting will be closed to the public from 02:45 p.m.-05:00 p.m.

FOR FURTHER INFORMATION CONTACT: Gwendolyn H. Cattledge, Ph.D., M.S.E.H., Deputy Associate Director for Science, National Center for Injury Prevention and Control, CDC, 4770 Buford Highway NE, MS F-63, Atlanta, GA 30341, telephone (770) 488-3953; NCIPCBSC@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-03007 Filed 2-21-19; 8:45 am]

BILLING CODE 4163-18-P